DEPARTMENT OF COMMERCE

International Trade Administration

Postponement of Preliminary Determinations of Antidumping Duty Investigations: Diamond Sawblades and Parts Thereof from the People's Republic of China (A-570-900) and the Republic of Korea (A-580-855)

AGENCY: Import Administration, International Trade Administration, Department of Commerce.

EFFECTIVE DATE: October 13, 2005.

FOR FURTHER INFORMATION CONTACT: Carrie Blozy (People's Republic of China) or Mark Manning (Republic of Korea), Import Administration, International Trade Administration, U.S. Department of Commerce, 14th Street and Constitution Avenue, N.W., Washington, DC 20230; telephone: (202) 482-5403 or (202) 482-5253, respectively.

SUPPLEMENTARY INFORMATION:

Postponement of Preliminary Determinations

On June 21, 2005, the Department of Commerce (“Department”) published the initiation of the antidumping duty investigations of imports of diamond sawblades and parts thereof from the People's Republic of China and the Republic of Korea. See Initiation of Antidumping Duty Investigations: Diamond Sawblades and Parts Thereof from the People's Republic of China and the Republic of Korea, 70 FR 35625 (June 21, 2005). The notice of initiation stated that the Department would make its preliminary determinations for these antidumping duty investigations no later than 140 days after the date of issuance of the initiation.

On September 26, 2005, the Diamond Sawblade Manufacturers' Coalition and its individual members (“Petitioners”) made timely requests pursuant to 19 CFR 351.205(e) for a fifty-day postponement of these preliminary determinations, until December 20, 2005. Petitioners requested postponement of these preliminary determinations to allow the Department additional time in which to review the responses and issue requests for clarification and additional information.

For the reasons identified by the Petitioners, and because there are no compelling reasons to deny the request, the Department is postponing these preliminary determinations under section 733(c)(1)(A) of the Tariff Act of 1930, as amended (“the Act”), by fifty days to December 20, 2005. The deadline for these final determinations will continue to be 75 days after the date of these preliminary determinations, unless extended.

This notice is issued and published pursuant to sections 733(c)(2) of the Act and 19 CFR 351.205(f)(1).

Dated: October 6, 2005.
Joseph A. Spetrini,
Acting Assistant Secretary for Import Administration.

[FR Doc. E5-5600 Filed 10-12-05; 8:45 am]

BILLING CODE 3510-DS-S